DEPARTMENT OF COMMERCE

National Institute of Standards and Technology

National Fire Protection Association (NFPA): Request for Comments on NFPA's Codes and Standards

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and takes approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the Proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of October 22, 2010. Certified motions will be posted by November 19, 2010. Documents that receive notice of proper Amending Motions (Certified Amending Motions) will be presented for action at the annual June 2011 Association Technical Meeting. Documents that receive no motions will be forwarded directly to the Standards Council for action on issuance.

For more information on these new rules and for up-to-date information on schedules and deadlines for processing NFPA Documents, check the NFPA Web site at http://www.nfpa.org or contact NFPA Codes and Standards Administration.

The purpose of this notice is to request comments on the technical reports that will be published in the NFPA's 2010 Fall Revision Cycle. The publication of this notice by the National Institute of Standards and Technology (NIST) on behalf of NFPA is being undertaken as a public service; NIST does not necessarily endorse, approve, or recommend any of the standards referenced in the notice.

DATES: Thirty-two reports are published in the 2010 Fall Revision Cycle Report on Proposals and will be available on December 28, 2009. Comments received on or before March 5, 2010, will be considered by the respective NFPA Committees before final action is taken on the proposals.

ADDRESSES: The 2010 Fall Revision Cycle Report on Proposals is available and downloadable from NFPA's Web site at http://www/nfpa.org or by requesting a copy from the NFPA, Fulfillment Center, 11 Tracy Drive, Avon, Massachusetts 02322. Comments on the report should be submitted to Secretary, Standards Council, NFPA, 1 Batterymarch Park, Quincy, Massachusetts 02169-7471.

FOR FURTHER INFORMATION CONTACT: Amy Beasley Cronin, Secretary, Standards Council, NFPA, 1 Batterymarch Park, Quincy, Massachusetts 02169-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR part 51.

Request for Comments

Interested persons may participate in these revisions by submitting written data, views, or arguments to Amy Beasley Cronin, Secretary, Standards Council, NFPA, 1 Batterymarch Park, Quincy, Massachusetts 02169-7471. Commenters may use the forms provided for comments in the Reports on Proposals. Each person submitting a comment should include his or her name and address, identify the notice, and give reasons for any recommendations. Comments received on or before March 5, 2010 for the 2010 Fall Revision Cycle Report on Proposals will be considered by the NFPA before final action is taken on the proposals.

Copies of all written comments received and the disposition of those comments by the NFPA committees will be published as the 2010 Fall Revision Cycle Report on Comments by August 27, 2010. A copy of the Report on Comments will be sent automatically to each commenter.

2010 Fall Revision Cycle Report on Proposals
[P=Partial Revision; W=Withdrawal; R=Reconfirmation; N=New; C=Complete Revision]
NFPA 2 | Hydrogen Technologies Code | N
NFPA 3 | Standard for the Commissioning and Integrated Testing of Fire Protection and Life Safety Systems | N
NFPA 12 | Standard on Carbon Dioxide Extinguishing Systems | P
NFPA 16 | Standard for the Installation of Foam-Water Sprinkler and Foam-Water Spray Systems | P
NFPA 18A | Standard on Water Additives for Fire Control and Vapor Mitigation | P
NFPA 31 | Standard for the Installation of Oil-Burning Equipment | P
NFPA 32 | Standard for Drycleaning Plants | P
NFPA 35 | Standard for the Manufacture of Organic Coatings | P
NFPA 51A | Standard for Acetylene Cylinder Charging Plants | P
NFPA 79 | Electrical Standard for Industrial Machinery | P
NFPA 85 | Boiler and Combustion Systems Hazards Code | P
NFPA 102 | Standard for Grandstands, Folding and Telescopic Seating, Tents, and Membrane Structures | P
NFPA 251 | Standard Methods of Tests of Fire Resistance of Building Construction and Materials | W
NFPA 253 | Standard Method of Test for Critical Radiant Flux of Floor Covering Systems Using a Radiant Heat Energy Source | P
NFPA 262 | Standard Method of Test for Flame Travel and Smoke of Wires and Cables for Use in Air-Handling Spaces | P
NFPA 265 | Standard Methods of Fire Tests for Evaluating Room Fire Growth Contribution of Textile Coverings on Full Height Panels and Walls | P
NFPA 285 | Standard Fire Test Method for Evaluation of Fire Propagation Characteristics of Exterior Non-Load-Bearing Wall Assemblies Containing Combustible Components | P
NFPA 286 | Standard Methods of Fire Tests for Evaluating Contribution of Wall and Ceiling Interior Finish to Room Fire Growth | P
NFPA 418 | Standard for Heliports | P
NFPA 730 | Guide for Premises Security | P
NFPA 731 | Standard for the Installation of Electronic Premises Security Systems | P
NFPA 901 | Standard Classifications for Incident Reporting and Fire Protection Data | R
NFPA 921 | Guide for Fire and Explosion Investigations | P
NFPA 1192 | Standard on Recreational Vehicles | P
NFPA 1194 | Standard for Recreational Vehicle Parks and Campgrounds | P
NFPA 1401 | Recommended Practice for Fire Service Training Reports and Records | R
NFPA 1405 | Guide for Land-Based Fire Fighters Who Respond to Marine Vessel Fires | P
NFPA 1906 | Standard for Wildland Fire Apparatus | C
NFPA 1912 | Standard for Fire Apparatus Refurbishing | P
NFPA 1977 | Standard on Protective Clothing and Equipment for Wildland Fire Fighting | C
NFPA 1984 | Standard on Respirators for Wildland Fire Fighting Operations | N
NFPA 2001 | Standard on Clean Agent Fire Extinguishing Systems | P

Dated: November 24, 2009.
Patrick Gallagher,
Director.

[FR Doc. E9-28706 Filed 11-30-09; 8:45 am]

BILLING CODE 3510-13-P